FEDERAL COMMUNICATIONS COMMISSION

47 CFR Part 73

Radio Broadcasting Services

CFR Correction

In Title 47 of the Code of Federal Regulations, Parts 70 to 79, revised as of October 1, 2000, in part 73, § 73.202(b) is corrected in the Table of FM Allotments on page 111 under Texas by removing channel 233A and adding channel 223A at Wake Village; and on page 112, under Vermont by removing Middlebury, Channel 265A, and by adding Berlin, Channel 265C2 and Hardwick, Channel 290A.

[FR Doc. 01-55513 Filed 4-13-01; 8:45 am]

BILLING CODE 1505-01-D